POSTAL REGULATORY COMMISSION

[Docket No. CP2012-39; Order No. 1382]

Express Mail Rates

AGENCY: Postal Regulatory Commission.

ACTION: Notice.

SUMMARY: The Commission is noticing a recently-filed Postal Service request to implement prices for a new Express Mail Padded Flat Rate Envelope. This notice addresses procedural steps associated with these filings.

DATES: Comments are due: July 9, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION: On June 22, 2012, the Postal Service filed notice with the Commission of changes in rates of general applicability and concomitant classification changes for a competitive product pursuant to 39 CFR 3015.2.¹ The Postal Service seeks to implement prices for a new Express Mail Padded Flat Rate Envelope. The prices would be the same as the existing Express Mail Regular and Legal Flat Rate Envelopes. The Postal Service represents that because these changes are only establishing another type of Express Mail Flat Rate Envelope at the same prices as the existing Express Mail Regular and Legal Flat Rate Envelopes, they will have no effect on the ability of the Express Mail product as a whole to cover its costs or make an appropriate contribution to institutional costs.

¹ Notice of the United States Postal Service of Changes in Rates of General Applicability for a Competitive Product, Established in Governors' Decision No. 12-1, June 22, 2012 (Notice).

The Postal Service includes three attachments with its Notice in support of its proposal to add new prices:

• Decision of the Governors of the United States Postal Service on Establishment of Rate and Class of General Applicability for Express Mail Padded Flat Rate Envelope (Governors' Decision No. 12-01);

• Management Analysis: Express Mail Padded Flat Rate Envelope; and

• Proposed Mail Classification Schedule language.

The Commission establishes Docket No. CP2012-39 for consideration of matters related to the Postal Service's filing.

Interested persons may submit comments on whether the Postal Service's Notice and other filings are consistent with the policies of 39 U.S.C. 3632, 3633 and 3642 as well as 39 CFR parts 3015 and 3020. Comments are due no later than July 9, 2012. The Postal Service's Notice can be accessed via the Commission's Web site (http://www.prc.gov).

The Commission appoints Natalie Rea Ward to serve as Public Representative in this proceeding.

It is ordered:

1. The Commission establishes Docket No. CP2012-39 for consideration of matters raised by the Postal Service's Notice.

2. Comments by interested persons in this proceeding are due no later than July 9, 2012.

3. Pursuant to 39 U.S.C. 505, Natalie Rea Ward is appointed to serve as the officer of the Commission (Public Representative) to represent the interests of the general public in this proceeding.

4. The Secretary shall arrange for publication of this order in the Federal Register.

By the Commission.
Ruth Ann Abrams,
Acting Secretary.

[FR Doc. 2012-16055 Filed 6-29-12; 8:45 am]

BILLING CODE 7710-FW-P